DEPARTMENT OF AGRICULTURE

Forest Service

Opal Creek Scenic Recreation Area (SRA) Advisory Council

AGENCY: Forest Service, USDA.

ACTION: Notice of meeting.

SUMMARY: The Opal Creek Scenic Recreation Area Advisory Council is scheduled to meet on Saturday, December 7, 2002 for a field visit to the Opal Creek Scenic Recreation Area. The objectives of the field visit are to:

• Orient council members to different areas within the high and low intensity zones;

• Discuss monitoring planning and identify key resource indicators that need to be assessed for the monitoring plan;

• Provide an overview of transportation system maintenance levels, current condition, reasons for access, and management options to the lay groundwork for developing the transportation plan as required by law;

• Discuss law enforcement issues and implementing no shooting corridors.

The tour is scheduled to begin at 8:30 a.m., and will conclude at approximately 3:30 p.m. The tour will begin at the Oregon Department of Forestry Office at 22965 North Fork Road in Mehama, Oregon and make several stops throughout the Opal Creek SRA. The Opal Creek Wilderness and Opal Creek Scenic Recreation Area Act of 1996 (Opal Creek Act) (Pub. L. 104-208) directed the Secretary of Agriculture to establish the Opal Creek Scenic Recreation Area Advisory Council. The Advisory Council is comprised of thirteen members representing state, county and city governments, and representatives of various organizations, which include mining industry, environmental organizations, inholders in Opal Creek Scenic Recreation Area, economic development, Indian tribes, adjacent landowners and recreation interests. The council provides advice to the Secretary of Agriculture on preparation of a comprehensive Opal Creek Management Plan for SRA, and consults on a periodic and regular basis on the management of the area.

The public comment period will begin at 3:15 p.m. when the council reconvenes at the Oregon Department of Forestry Office. Time allotted for individual presentations will be limited to 3 minutes. Written comments are encouraged, particularly if the material cannot be presented within the time limits of the comment period. Written comments may be submitted prior to the December 7 meeting by sending them to Designated Federal Official Stephanie Phillips at the address given below. The public is welcome to attend the tour, however individuals must provide their own transportation throughout the tour and bring a lunch. Four-wheel drive is recommended.

FOR FURTHER INFORMATION CONTACT: For more information regarding this meeting, contact Designated Federal Official Gina Owens; Willamette National Forest, Detroit Ranger District, HC 73 Box, 320, Mill City, OR 97360; (503) 854-3366.

Dated: November 22, 2002.
Dallas J. Emch,
Forest Supervisor.

Disclaimer: This meeting notice is being published less than 15 days prior to the meeting since this is a reschedule of the field tour that was cancelled on November 17, 2002 (Federal Register Notice Vol. 67, No. 216, November 7, 2002, pages 67819 for lack of confirmed attendance. The field tour is being rescheduled in a timely manner to prempt winter conditions closing the area, and so that planning can be accomplished within the timeframes that are set. This late notice is authorized under 41 CFR 1016.1015(b)(2).

[FR Doc. 02-30217 Filed 11-27-02; 8:45 am]

BILLING CODE 3410-11-M